DEPARTMENT OF THE INTERIOR

National Park Service

Notice of Intent To Prepare an Environmental Impact Statement and Conduct a Public Meeting Initiating a Development Concept Plan/Environmental Impact Statement for the Jamestown Unit of Colonial National Historical Park

AGENCY: National Park Service, Interior.

ACTION: Notice of public meeting and Notice of intent to prepare a Development Concept Plan/Environmental Impact Statement.

SUMMARY: This notice announces upcoming public scoping meetings initiating a Development Concept Plan for the Jamestown unit of Colonial National Historic Park and the intent to publish an Environmental Impact Statement in association with the Development Concept Plan.

Public Meetings

Dates and Times: Tuesday, October 3, 2000 from 1-4 PM and Tuesday, October 3, 2000 from 6-9 PM.

Address: Jamestown Visitor Center on Jamestown Island, 1368 Colonial Parkway, Jamestown, VA 23081.

The purpose of the meetings is to describe the development concept planning effort beginning for Jamestown, a unit of Colonial National Historical Park, and to solicit public input on the development of the plan concepts. The agenda for the meetings consists of an overview of the project, a general question and answer period, and an open discussion of citizen ideas and concerns.

We encourage all who have an interest in Jamestown's future to attend or to contact the park superintendent by letter, telephone or e-mail. Minutes of the meetings will be available for public review four weeks after the meeting at the Visitor Center.

FOR FURTHER INFORMATION CONTACT: Superintendent, Colonial National Historical Park, Post Office Box 210, Yorktown, Virginia 23690, (757) 898-3400 or www.apva.org

Heather Huyck,
Jamestown 400th Project Director, National Park Service.

[FR Doc. 00-25019 Filed 9-28-00; 8:45 am]

BILLING CODE 4310-70-P